DEPARTMENT OF TRANSPORTATION

Federal Highway Administration

Environmental Impact Statement; Pierce County, WA

AGENCY: Federal Highway Administration (FHWA), Washington State Department of Transportation (WSDOT).

ACTION: Notice of Intent to prepare an Environmental Impact Statement.

SUMMARY: The FHWA is issuing this notice to advise the public that an Environmental Impact Statement (EIS) will be prepared for a proposed highway project on State Route 302 (SR) from Key Peninsula Highway to SR 16 in Pierce County, Washington.

FOR FURTHER INFORMATION CONTACT: Wendy L. McAbee, Olympic Region Area Engineer, Federal Highway Administration, 711 S. Capital Way, Suite 501, Olympia, Washington 98507, (360) 753-9025, e-mail: wendy.mcabee@dot.gov or contact John P. Donahue, Project Manager, Washington State Department of Transportation, 5720 Capitol Boulevard, Tumwater, Washington 98501, (360) 357-2788, e-mail: donahjo@wsdot.wa.gov.

SUPPLEMENTARY INFORMATION: The FHWA, in cooperation with WSDOT, will prepare an Environmental Impact Statement (EIS) on a proposal to address existing and long-term safety and congestion conditions on State Route 302 (SR) corridor from Key Peninsula Highway to SR 16 in Pierce County, Washington. This corridor is approximately 7.6 miles long, and is located between milepost 10.55 and milepost 16.87 on SR 302, and milepost 15.85 and milepost 17.13 on SR 302 Spur.

Improvements to the corridor are considered necessary to provide for the existing and projected traffic demand and improve connectivity between communities on the Key Peninsula and State Route 16. The proposed project would provide an efficient and functional transportation route along the SR 302 corridor between SR 302 at Key Peninsula Highway and SR 16. The proposed action will also increase the level of safety for travelers.

State Route 302 from SR 3 to SR 16 was studied in 1993 to determine alternatives for improving the corridor. The study recommended several potential alternatives and performing an EIS. Traffic information gathered in 2007 revealed dramatic differences in safety and congestion statistics east and west of Key Peninsula Highway and SR 302. As a result, the logical study endpoints of the project were found to lie between Key Peninsula Highway and SR 16. Multiple opportunities have been provided for public involvement in defining the project purpose and need and determining the range of reasonable alternatives to be considered for the project in the EIS. WSDOT is currently in the middle of an extensive alternatives screening process in order to evaluate a comprehensive list of project alternatives. Further opportunities for the public to comment will be provided throughout the Environmental Impact Statement process.

Scoping letters describing the proposed action and soliciting comments will be sent to appropriate Federal, State, and Local agencies, and to private organizations and citizens who have previously expressed or are known to have interest in this proposal. A series of public meetings will be held throughout the environmental process. In addition, a public hearing will be held. Public notice will be given of the time and place of the meetings and hearing. The draft EIS will be available for public and agency review and comment prior to the public hearing. A formal scoping meeting with resource agencies is scheduled for January 12, 2009. Resource agencies were notified 30 days prior to the meeting date. A public scoping meeting is also planned for mid-January 2009.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: December 23, 2008.
Wendy McAbee,
Area Engineer, Washington Division, Federal Highways Administration.

[FR Doc. E8-31198 Filed 12-31-08; 8:45 am]

BILLING CODE 4910-22-P